DEPARTMENT OF AGRICULTURE

Forest Service

Idaho Panhandle Resource Advisory Committee

AGENCY: Forest Service, USDA.

ACTION: Notice of meeting.

SUMMARY: The Idaho Panhandle Resource Advisory Committee (RAC) will meet in Coeur d'Alene, Idaho. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: http://www.fs.usda.gov/main/ipnf/workingtogether/advisorycommittees.

DATES: The meeting will be held on Friday, June 21, 2019, at 9:00 a.m.

All RAC meetings are subject to cancellation. For updated status of the meeting prior to attendance, please contact the person listed under For Further Information Contact.

ADDRESSES: The meeting will be held at the Idaho Panhandle National Forests Supervisor's Office, 3815 Schreiber Way, Coeur d'Alene, Idaho.

Written comments may be submitted as described under Supplementary Information. All comments, including names and addresses, when provided, are placed in the record and are available for public inspection and copying. The public may inspect comments received at the Idaho Panhandle National Forests Supervisor's Office. Please call ahead to facilitate entry into the building.

FOR FURTHER INFORMATION CONTACT: Phillip Blundell, RAC Coordinator, by phone at 208-783-2101 or by email at phillipblundell@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of this meeting is to:

1. Review project propsals;

2. Recommend projects to the Designated Federal Officer (DFO); and

3. Conduct any necessary administrative business.

The meeting is open to the public. The agenda will include time for people to make oral statements of three minutes or less. Individuals wishing to make an oral statement should request in writing by June 14, 2019. Anyone who would like to bring related matters to the attention of the committee may file written statements with the committee staff before or after the meeting. Written comments and requests for time to make oral comments must be sent to Phillip Blundell, RAC Coordinator, Post Office Box 159, Smelterville, Idaho; by email to phillipblundell@usda.gov, or by facsimile at 208-783-2154.

Meeting Accommodations: If you are a person requiring reasonable accommodation, please make requests in advance for sign language interpreting, assistive listening devices or other reasonable accommodation. For access to the facility or proceedings, please contact the person listed in the section titled For Further Information Contact. All reasonable accommodation requests are managed on a case by case basis.

Dated: May 16, 2019.
Frank Beum,
Acting Associate Deputy Chief, National Forest System.

[FR Doc. 2019-10816 Filed 5-22-19; 8:45 am]

BILLING CODE 3411-15-P